DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before August 6, 2007.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and questionnaires:

Title: Tax Authorization Information.

OMB Number: 1513-0001.

TTB Form Numbers: 5000.19.

Abstract: TTB requires TTB F 5000.19 to be filed when a respondent's representative, not having a power of attorney, wishes to obtain confidential information regarding the respondent. After completion of the form, information can be released to the representative.

Current Actions: There are no changes to this information collection, and it is being submitted for extension purposes only.

Type of Review: Extension of a currently approved collection.

Affected Public: Business or other for-profit.

Estimated Number of Respondents: 50.

Estimated Total Annual Burden Hours: 50.

Title: Referral of Information.

OMB Number: 1513-0003.

TTB Form Numbers: 5000.21.

Abstract: TTB F 5000.21 is used to refer to other Federal, State or local government agencies information on potential violations of requirements under their jurisdiction or as requested. The form is also used to request what action will be taken as a result of the potential violation.

Current Actions: There are no changes to this information collection, and it is being submitted for extension purposes only.

Type of Review: Extension of a currently approved collection.

Affected Public: Federal government; State, Local, or Tribal government.

Estimated Number of Respondents: 500.

Estimated Total Annual Burden Hours: 500.

Title: Offer in Compromise of Liability Incurred under the Provisions of Title 26 U.S.C. Enforced and Administered by the Alcohol and Tobacco Tax and Trade Bureau.

OMB Number: 1513-0054.

TTB Form Numbers: 5640.1.

Abstract: TTB F 5640.1 is used by persons who wish to compromise criminal and/or civil penalties for violations of the Internal Revenue Code. If accepted, the offer in compromise is a settlement between the Government and the party in violation, in lieu of legal proceedings or prosecution. TTB F 5640.1 identifies the party making the offer, the violation(s), the amount of offer, and the circumstances concerning the violation(s).

Current Actions: There are no changes to this information collection, and it is being submitted for extension purposes only.

Type of Review: Extension of a currently approved collection.

Affected Public: Business or other for-profit.

Estimated Number of Respondents: 40.

Estimated Total Annual Burden Hours: 80.

Title: Federal Firearms and Ammunition Excise Tax Deposit.

OMB Number: 1513-0096.

TTB Form Number: 5300.27.

Abstract: 26 U.S.C. 4181 imposes a Federal excise tax on the sale of pistols, revolvers, other firearms, shells, and cartridges sold by firearms manufacturers, producers, and importers. 26 U.S.C. 6001, 6301, and 6302 establish the authority for a deposit of excise tax to be made. The information on TTB F 5300.27 identifies the taxpayer and establishes the taxpayer's deposit.

Current Actions: There are no changes to this information collection and it is being submitted for extension purposes only.

Type of Review: Extension of a currently approved collection.

Affected Public: Business or other for-profit; Individuals or households.

Estimated Number of Respondents: 317.

Estimated Total Annual Burden Hours: 1,052.

Dated: May 30, 2007.
Francis W. Foote,
Director, Regulations and Rulings Division.

[FR Doc. E7-10882 Filed 6-5-07; 8:45 am]

BILLING CODE 4810-31-P